DEPARTMENT OF LABOR

Employment and Training Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed new collection of information for the Resource Justification Model (RJM). ETA would use the RJM to formulate a budget request for the unemployment insurance (UI) program from States' data and allocate appropriated funds among the States.

A copy of the proposed information collection request (ICR) can be obtained by contacting the office listed below in the ADDRESSES section of this notice.

DATES: Written comments must be submitted to the office listed in the ADDRESSES section below on or before August 20, 2001.

ADDRESSES: Timothy S. Felegie, Room C4526, 200 Constitution Avenue, NW., Washington, DC 20210, (202) 693-2934 (this is not a toll-free number). E-mail address is tfelegie@doleta.gov and fax number is (202) 693-3229.

SUPPLEMENTARY INFORMATION:

I. Background

ETA developed the RJM to replace an outdated budget formulation and allocation process for the UI program. Although the RJM entails a substantial data collection effort, it would provide ETA with current cost information to justify budget requests for State UI program administration. The RJM's goals are to build a credible budget from State-submitted data in order to obtain needed resources, allocate administrative funds equitably among States, and promote cost-effective practices.

Using the RJM, State agencies would submit detailed data by major cost categories in a structured format. This would provide States with a means to justify their funding needs and would provide ETA with an objective tool to evaluate those needs. State agencies that have an accounting system with a relational database could build queries for data extraction from the accounting system; this would keep the data collection burden at a minimum.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

RJM consists of six modules:

—State data collection and submission

—Regional Office data review

—National Office data analysis and evaluation

—National Office budget formulation

—Resource allocation

—Monitoring

The first module is most pertinent to this proposed data collection effort. Module I consists of three parts: a mandatory Microsoft Excel® file with 39 linked spreadsheets with an optional file with four spreadsheets, a narrative justification that explains budget increases, and a narrative performance and capital improvement (PCI) request. State agencies would enter data into the indicated cells through either hand entry or through database extraction from their accounting systems. The spreadsheets are set up to calculate much of the data to minimize data entry to the extent possible. Each State agency would submit Module I to ETA once annually in February. For the first year only, State agencies would submit PCI requests two months earlier (December 2001) to allow time for ETA review and consultation with the States.

The mandatory Excel® file has three basic categories of cost data: workload-related staff years for each major workload activity (e.g., initial claims, subject employers), non-workload-related staff years (e.g., benefit payment control), and non-personal services (NPS) (e.g., facilities, communications). The optional file relates only to more detailed data for communications, utilities, ADP, and office equipment. The data in each file cover four fiscal years: the year just completed, the current year, the next year, and the budget request year. A Portable Document Format version of each file may be printed from www.ows/doleta.gov/ by clicking on the “News” link or the scrolling RJM article under the News section; this will link to a site where the user can select the files. Please contact Tim Felegie at (202) 693-2934 for a paper copy of the files or for help in using the site.

State agencies would submit a narrative justification to explain incremental changes from the previous year to the budget request year that are not related to a PCI request. Examples include personal services or personnel benefit increases and changes to minutes per unit (MPU) value.

State agencies would have an opportunity to submit PCI requests for certain types of investments: program performance improvements, capital projects for facilities and technology, and law changes. State agencies would incorporate the PCI request into the RJM data file and the funding increase could be expressed as an increase in MPU value, an increase in non-workload-related staff years, or an increase in NPS. The funding increase could be requested for a single year or spread over multiple years. ETA would evaluate these requests on how they address performance and capital improvements, impact on customer service, and cost benefit/cost avoidance.

ETA would load the Excel® file data into a database for array and analysis.

Type of Review: New.

Agency: Employment and Training Administration.

Title: Resource Justification Model.

Affected Public: State Government.

Cite/reference | Total respondents | Frequency | Total responses | Average time per response (hours) | Burden (hours)
RJM 1 ser | 53 | Anually | 53 | 41 | 2,173
RJM 2 ser | 53 | Anually | 53 | 30 | 1,590
RJM 3 ser | 53 | Anually | 53 | 6 | 318
RJM 4 ser | 53 | Anually | 53 | 12 | 636
RJM 5 ser | 53 | Anually | 53 | 12 | 636
RJM 6 ser | 53 | Anually | 53 | 7 | 371
Narrative | 53 | Anually | 53 | 11 | 583
PCI | 53 | Anually | 53 | 114 | 6,042
Totals |  |  | 424 |  | 12,349

Total Burden Cost (capital/startup): $500,000 (based on variable cost per State—negligible for some States and up to $60,000 for others).

Total Burden Cost (operating/maintaining): $375,028.

Comments submitted in response to this comment request will be summarized and/or included in the request for Office of Management and Budget approval of the information collection request; they will also become a matter of public record.

Dated: June 11, 2001.
Grace A. Kilbane,
Administrator, Office of Workforce Security.

[FR Doc. 01-15360 Filed 6-18-01; 8:45 am]

BILLING CODE 4510-30-P